DEPARTMENT OF HEALTH AND HUMAN SERVICES

Food and Drug Administration

[Docket Nos. 2007M-0174, 2007M-0259, 2007M-0161, 2007M-0160, 2007M-0151, 2007M-0152, 2007M-0153, 2007M-0188, 2007M-0156, 2007M-0154, 2007M-0180, 2007M-0189, 2007M-0190, 2007M-0253, 2007M-0255, 2007M-0254]

Medical Devices; Availability of Safety and Effectiveness Summaries for Premarket Approval Applications

AGENCY: Food and Drug Administration, HHS.

ACTION: Notice.

SUMMARY: The Food and Drug Administration (FDA) is publishing a list of premarket approval applications (PMAs) that have been approved. This list is intended to inform the public of the availability of safety and effectiveness summaries of approved PMAs through the Internet and the agency's Division of Dockets Management.

ADDRESSES: Submit written requests for copies of summaries of safety and effectiveness data to the Division of Dockets Management (HFA-305), Food and Drug Administration, 5630 Fishers Lane, rm. 1061, Rockville, MD 20852. Please cite the appropriate docket number as listed in Table 1 of this document when submitting a written request. See the SUPPLEMENTARY INFORMATION section for electronic access to the summaries of safety and effectiveness.

FOR FURTHER INFORMATION CONTACT: Samie Allen, Center for Devices and Radiological Health (HFZ-402), Food and Drug Administration, 9200 Corporate Blvd., Rockville, MD 20850, 240-276-4013.

SUPPLEMENTARY INFORMATION:

I. Background

In the Federal Register of January 30, 1998 (63 FR 4571), FDA published a final rule that revised 21 CFR 814.44(d) and 814.45(d) to discontinue individual publication of PMA approvals and denials in the Federal Register. Instead, the agency now posts this information on the Internet on FDA's home page at http://www.fda.gov. FDA believes that this procedure expedites public notification of these actions because announcements can be placed on the Internet more quickly than they can be published in the Federal Register, and FDA believes that the Internet is accessible to more people than the Federal Register.

In accordance with section 515(d)(4) and (e)(2) of the Federal Food, Drug, and Cosmetic Act (the act) (21 U.S.C. 360e(d)(4) and (e)(2)), notification of an order approving, denying, or withdrawing approval of a PMA will continue to include a notice of opportunity to request review of the order under section 515(g) of the act. The 30 day period for requesting reconsideration of an FDA action under § 10.33(b) (21 CFR 10.33(b)) for notices announcing approval of a PMA begins on the day the notice is placed on the Internet. Section 10.33(b) provides that FDA may, for good cause, extend this 30 day period. Reconsideration of a denial or withdrawal of approval of a PMA may be sought only by the applicant; in these cases, the 30 day period will begin when the applicant is notified by FDA in writing of its decision.

The regulations provide that FDA publish a quarterly list of available safety and effectiveness summaries of PMA approvals and denials that were announced during that quarter. The following is a list of approved PMAs for which summaries of safety and effectiveness were placed on the Internet from April 1, 2007, through June 30, 2007. There were no denial actions during this period. The list provides the manufacturer's name, the product's generic name or the trade name, and the approval date.

Table 1. List of Safety and Effectiveness Summaries for Approved PMAs Made Available From April 1, 2007, through June 30, 2007.
PMA No./Docket No. | Applicant | TRADE NAME | Approval Date
P050049/2007M-0174 | Abbott Laboratories | ABBOTT AXSYM HBSAG ASSAY | June 1, 2006
P040048/2007M-0259 | Zimmer, Inc. | TRILOGY AB ACETBULAR SYSTEM | June 28, 2006
P060003/2007M-0161 | Abbott Laboratories | AXSYM AUSAB REAGENT PACK, STANDARD CALIBRATORS, CONTROLS | August 7, 2006
P060009/2007M-0160 | Abbott Laboratories | AXSYM CORE-M 2.0 & 2.0 CONTROLS | August 25, 2006
P050048/2007M-0151 | Bio-Rad Laboratories, Inc. | MONOLISA ANTI-HBS EIA | August 25, 2006
P060007/2007M-0152 | Abbott Laboratories | ARCHITECT HBSAG REAGENT KIT, CALIBRATORS, CONTROLS, CONFIRMATORY REAGENT KIT, CONFIRMATORY MANUAL DILUENT | September 7, 2006
P060012/2007M-0153 | Abbott Laboratories | AXSYM CORE 2.0 & AXSYM CORE 2.0 CONTROLS | September 8, 2006
P990037(S24)/2007M-0188 | Vascular Solutions, Inc. | VASCULAR SOLUTIONS D-STAT FLOWABLE HEMOSTAT | December 22, 2006
H060003/2007M-0156 | EV3 Neurovascular | ONYX LIQUID EMBOLIC SYSTEM (ONYX HD-500, MODEL 105-8101-500) | April 11, 2007
P050046/2007M-0154 | Guidant Corp. | ACUITY STEERABLE LEAD MODELS 4554, 4555, & 4556 | April 13, 2007
P040024(S006)/2007M-0180 | Medicis Aesthetics Holdings, Inc. | PERLANE INJECTABLE GEL | May 2, 2007
P060011/2007M-0189 | Rayner Surgical, Inc. | C-FLEX MODEL 570C INTRAOCULAR LENS (IOL) | May 3, 2007
H060001/2007M-0190 | Cordis Neurovascular, Inc. | ENTERPRISE VASCULAR RECONSTRUCTION DEVICE AND DELIVERY SYSTEM | May 8, 2007
P050004/2007M-0253 | Electro Medical Systems (EMS) S.A. | EMS SWISS DOLORCLAST | May 8, 2007
P050012(S001)/2007M-0255 | Dexcom, Inc. | STS-7 CONTINUOUS GLUCOSE MONITORING SYSTEM | May 31, 2007
P060034/2007M-0254 | Bio-Rad Laboratories | BIO RAD MONOLISA ANTI-HBC IGM EIA | May 31, 2007

II. Electronic Access

Persons with access to the Internet may obtain the documents at http://www.fda.gov/cdrh/pmapage.html.

Dated: August 30, 2007.
Linda S. Kahan,
Deputy Director, Center for Devices and Radiological Health.

[FR Doc. E7-18034 Filed 9-12-07; 8:45 am]

BILLING CODE 4160-01-S